DEPARTMENT OF THE TREASURY

Bureau of Engraving and Printing

Next Generation of Currency; Availability of an Environmental Assessment and Finding of No Significant Impact

ACTION: Notice of availability and request for comments.

SUMMARY: The Department of the Treasury is issuing this notice to inform the public of the availability of the Environmental Assessment for the Production of the Next Generation of Currency, Western Currency Facility, Fort Worth, Texas and Washington, DC Facility, and a draft Finding Of No Significant Impact (FONSI). The Environmental Assessment (EA) has been prepared to address the environmental impacts of the Next Generation of Currency. This EA was prepared under the statutory authority of 40 CFR 1500 et seq., the Council of Environmental Quality's National Environmental Policy Act implementing regulations.

DATES: Comments must be postmarked no later than March 19, 2004. Comments should be sent to the address given under FOR FURTHER INFORMATION CONTACT.

ADDRESSES: Direct all written comments to Department of the Treasury, Bureau of Engraving and Printing, Neal Mohlmann, 14th & C Streets, SW., DC 20228, (202) 874-2048.

FOR FURTHER INFORMATION CONTACT: For a copy of the EA or for further information, contact Mr. Neal Mohlmann, Chief, Office of Environment and Safety, telephone (202) 874-2048; fax (202) 874-9757. The EA is also available on the Bureau of Engraving and Printing's Web site at http://www.moneyfactory.com/uploads/BEP-Environmental-Assessment.pdf.

SUPPLEMENTARY INFORMATION: The Bureau of Engraving and Printing has prepared an Environmental Assessment (EA) concerning the introduction of an offset printing process and temporary production increases to phase-in the Next Generation of Currency. On the basis of the EA, the Bureau has concluded that no significant adverse impacts are expected to occur from implementation of the proposed action in either the short-term, long-term, or cumulatively. Because the proposed action would not result in significant adverse environmental impacts, the Bureau concluded that the preparation of a finding of no significant impact (FONSI) was appropriate, and therefore, an environmental impact statement is not required. The basis for this conclusion is supported by the following findings. Both temporary and permanent increases in certain solid and hazardous waste streams due to increased production rates can be managed within existing Bureau facility capacities and capabilities. Long-term increases in air emission would occur at the Western Currency Facility; however, these emissions would be within permitted limits and would not result in the violation of any air standards or substantially degrade regional air quality. The net volatile organic compounds-related air emissions associated with the DC Facility, in consideration of the recent replacement of several I-8 presses, would actually decrease.

Title: Environmental Assessment and Draft Finding of No Significant Impact Next Generation of Currency.

Dated: February 12, 2004.
Neal Mohlmann,
Chief, Office of Environment and Safety.

[FR Doc. 04-3437 Filed 2-17-04; 8:45 am]

BILLING CODE 4840-01-P